DEPARTMENT OF TRANSPORTATION

Federal Aviation Administration

14 CFR Part 39

[Docket No. FAA-2026-0733; Project Identifier MCAI-2025-01329-R; Amendment 39-23251; AD 2026-03-02]

RIN 2120-AA64

Airworthiness Directives; Airbus Helicopters Deutschland GmbH (AHD) Helicopters

AGENCY: Federal Aviation Administration (FAA), DOT.

ACTION: Final rule; request for comments.

SUMMARY: The FAA is superseding Airworthiness Directive (AD) 2014-13-09, which applied to certain Airbus Helicopters Deutschland GmbH (AHD) helicopters Model EC135P1, EC135P2, EC135P2+, EC135T1, EC135T2, and EC135T2+ helicopters. AD 2014-13-09 required repetitive visual inspections of the ring frame X9227 for a crack, and if there is a crack, replacing the ring frame. Since the FAA issued AD 2014-13-09, AHD Helicopters determined that this unsafe condition also applies to AHD Model EC135P3 and EC135T3 helicopters. This AD continues to require some of the actions required by AD 2014-13-09 and expands the applicability by including AHD Model EC135P3 and EC135T3 helicopters and also reduces the compliance time for the repetitive inspections. This AD also allows the modification of the ring frame X9227 as terminating action for the repetitive visual inspections. The FAA is issuing this AD to address the unsafe condition on these products.

DATES: This AD is effective February 17, 2026.

The Director of the Federal Register approved the incorporation by reference of a certain publication listed in this AD as of February 17, 2026.

The FAA must receive comments on this AD by March 19, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0733; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this final rule, contact EASA, Konrad-Adenauer-Ufer 3, 50668 Cologne, Germany; phone +49 221 8999 000; email ADs@easa.europa.eu; website: easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2026-0733.

FOR FURTHER INFORMATION CONTACT: Shailesh Malla, Aviation Safety Engineer, FAA, 1600 Stewart Avenue, Suite 410, Westbury, NY 11590; phone: (817) 222-5584; email: shailesh.malla@faa.gov.

SUPPLEMENTARY INFORMATION:

Comments Invited

The FAA invites you to send any written data, views, or arguments about this final rule. Send your comments using a method listed under the ADDRESSES section. Include “Docket No. FAA-2026-0733; Project Identifier MCAI-2025-01329-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Shailesh Malla, Aviation Safety Engineer, FAA, 1600 Stewart Avenue, Suite 410, Westbury, NY 11590. Any commentary that the FAA receives which is not specifically designated as CBI will be placed in the public docket for this rulemaking.

Background

The FAA issued AD 2014-13-09, Amendment 39-17885 (79 FR 41095, July 15, 2014) (AD 2014-13-09), for AHD Model EC135P1, EC135P2, EC135P2+, EC135T1, EC135T2, and EC135T2+ helicopters with mounting ring frame X9227, part number (P/N) L535H2120301, P/N L535H2120303, or P/N L535H2120304, installed, except those with frame reinforcement P/N L535H2100201 installed. AD 2014-13-09 was prompted by an MCAI originated by EASA, which is the Technical Agent for the Member States of the European Union. EASA issued EASA Emergency AD 2013-0289-E, dated December 6, 2013 (EASA Emergency AD 2013-0289-E), to correct an unsafe condition identified as a fatigue crack in the ring frame. AD 2014-13-09 required visually inspecting the ring frame X9227 for a crack between the rivets and if there is a crack, replacing the ring frame with an airworthy part. The FAA issued AD 2014-13-09 to detect a crack in the ring frame and prevent loss of the tail rotor and consequent loss of control of the helicopter.

Actions Since AD 2014-13-09 Was Issued

Since the FAA issued AD 2014-13-09, EASA superseded EASA Emergency AD 2013-0289-E and issued EASA AD 2025-0174, dated August 5, 2025, which retained the requirements of EASA Emergency AD 2013-0289-E and expanded the applicability to apply to Model EC135P3 and EC135T3 helicopters. Additionally, EASA issued EASA AD 2025-0174R1, dated September 22, 2025 (EASA AD 2025-0174R1) (also referred to as the MCAI). The MCAI states that an additional occurrence of a crack, this time running along six rivets of the ring frame rather than only three, was reported.

Accordingly, the manufacturer revised the service information, which consisted of reducing the repetitive inspection intervals and also specifying modification instructions, which is a terminating action for the repetitive inspections. The MCAI also states the compliance time for the required modification can be extended.

The FAA is issuing this AD to detect a crack in the ring frame and prevent loss of the tail rotor and consequent loss of control of the helicopter. The FAA is also considering separate rulemaking to address the requirements for modifying the helicopter which may constitute as terminating action for the required repetitive inspections.

You may examine the MCAI in the AD docket at regulations.gov under Docket No. FAA-2026-0733.

Material Incorporated by Reference Under 1 CFR Part 51

The FAA reviewed EASA AD 2025-0174R1, which specifies procedures for visually inspecting ring frame X9227 for a crack, and depending on the results of the inspection, contacting AHD for approved repair instructions. EASA AD 2025-0174R1 also specifies procedures for modifying the ring frame X9227 which is considered terminating action for the repetitive inspections.

This material is reasonably available because the interested parties have access to it through their normal course of business or by the means identified in the ADDRESSES section.

FAA's Determination

These products have been approved by the civil aviation authority (CAA) of another country and are approved for operation in the United States. Pursuant to the FAA's bilateral agreement with this State of Design Authority, that authority has notified the FAA of the unsafe condition described in the MCAI referenced above. The FAA is issuing this AD after determining that the unsafe condition described previously is likely to exist or develop on other products of the same type design.

AD Requirements

This AD requires accomplishing the actions specified in EASA AD 2025-0174R1, described previously, as incorporated by reference, except for any differences identified as exceptions in the regulatory text of this AD. See “Differences Between this AD and the MCAI” for a discussion of the general differences included in this AD.

Differences Between This AD and the MCAI

The MCAI applies to EC635P2+ and EC635T1 helicopters, whereas this AD does not because those models do not have an FAA type certificate.

The MCAI requires contacting the manufacturer if a crack is found, whereas this AD requires replacing the ring frame if there is a crack.

The MCAI specifies to modify the helicopter by installing a new frame reinforcement. The FAA is considering requiring this modification; in the interim, this AD allows the modification as an optional terminating action for the repetitive inspections, but does not require it.

Explanation of Required Compliance Information

In the FAA's ongoing efforts to improve the efficiency of the AD process, the FAA developed a process to use some CAA ADs as the primary source of information for compliance with requirements for corresponding FAA ADs. The FAA has been coordinating this process with manufacturers and CAAs. As a result, the FAA proposes to incorporate EASA AD 2025-0174R1 by reference in the FAA final rule. This AD would, therefore, require compliance with EASA AD 2025-0174R1 in its entirety through that incorporation, except for any differences identified as exceptions in the regulatory text of this AD. Using common terms that are the same as the heading of a particular section in EASA AD 2025-0174R1 does not mean that operators need comply only with that section. For example, where the AD requirement refers to “all required actions and compliance times,” compliance with this AD requirement is not limited to the section titled “Required Action(s) and Compliance Time(s)” in EASA AD 2025-0174R1. Material required in EASA AD 2025-0174R1 for compliance will be available at regulations.gov under Docket No. FAA-2026-0733 after the FAA final rule is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the affected components are part of an assembly that is critical to the control of a helicopter. In addition, cracking could lead to instantaneous failure before detection. A crack running along six rivets of the ring frame was reported. As the FAA currently lacks definitive information pertaining to the extent of cracking of the affected components that may already exist in helicopters or how quickly the condition may propagate to failure. Thus, for certain helicopters the initial instance of the actions required by this AD must be accomplished within 50 hours time-in-service (TIS) and thereafter within intervals not to exceed 25 hours TIS. These compliance times are shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 370 helicopters of U.S. registry.

The FAA estimates the following costs to comply with this AD:

Estimated Costs
Action | Labor cost | Parts cost | Cost per product | Cost on U.S. operators
Inspect ring frame X9227 | 1 work-hour × $85 per hour = $85 | $0 | $85 | $31,450

The FAA estimates the following costs to do any replacements that would be required based on the results of the inspection. The agency has no way of determining the number of helicopters that might need this replacement.

On-Condition Costs
Action | Labor cost | Parts cost | Cost per product
Replacing the ring frame X9227 | 40 work-hours × $85 per hour = $3,400 | $10,000 | $13,400
Modify ring frame X9227 with retrofit kit SB-135-53-030-2C1 | 17 work-hours × $85 per hour = $1,445 | 3,688 | 5,133
Modify ring frame X9227 with retrofit kit SB-135-53-030-2C2 | 17 work-hours × $85 per hour = $1,445 | 1,438 | 2,883

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2014-13-09, Amendment 39-17885 (79 FR 41095, July 15, 2014); and

b. Adding the following new airworthiness directive:

2026-03-02 Airbus Helicopters Deutschland GmbH (AHD): Amendment 39-23251; Docket No. FAA-2026-0733; Project Identifier MCAI-2025-01329-R.

(a) Effective Date

This airworthiness directive (AD) is effective February 17, 2026.

(b) Affected ADs

This AD replaces AD 2014-13-09, Amendment 39-17885 (79 FR 41095, July 15, 2014).

(c) Applicability

This AD applies to Airbus Helicopters Deutschland GmbH (AHD) Model EC135P1, EC135P2, EC135P2+, EC135P3, EC135T1, EC135T2, EC135T2+, EC135T3, and EC635T2+ helicopters, certificated in any category with mounting ring frame X9227, part number (P/N) L535H2120301, L535H2120303, or L535H2120304, installed, except those with frame reinforcement P/N L535H2100201 or L535H2100202 installed.

Note 1 to paragraph (c): Helicopters with an EC135P3H designation are Model EC135P3 helicopters. Helicopters with EC135T3H designation are Model EC135T3 helicopters.

(d) Subject

Joint Aircraft System Component (JASC) Code 5302, Rotorcraft Tail Boom.

(e) Unsafe Condition

This AD was prompted by fatigue crack found on the ring frame ring that attaches the fuselage tail boom structure to the tail rotor housing. The FAA is issuing this AD to detect and address fatigue cracking in the ring frame. The unsafe condition, if not addressed, could result in loss of a tail rotor and consequent loss of control of the helicopter.

(f) Compliance

Comply with this AD within the compliance times specified, unless already done.

(g) Required Actions

Except as specified in paragraphs (h) and (i) of this AD: Perform all required actions within the compliance times specified in, and in accordance with, European Union Aviation Safety Agency (EASA) AD 2025-0174R1, dated September 22, 2025 (EASA AD 2025-0174R1).

(h) Exceptions to EASA AD 2025-0174R1

(1) Where EASA AD 2025-0174R1 refers to its effective date or the effective date of August 19, 2025 [the effective date of EASA AD 2025-0174], this AD requires using the effective date of this AD.

(2) Where EASA AD 2025-0174R1 specifies compliance in terms of flight hours, this AD requires using hours time-in-service.

(3) Where paragraph (2) of EASA AD 2025-0174R1 specifies to contact AHD for approved repair instructions and accomplish those actions accordingly, this AD requires accomplishing those actions using a method approved by the Manager, International Validation Branch, FAA; EASA; or AHD's EASA Design Organization Approval (DOA). If approved by the DOA, the approval must include the DOA-authorized signature.

(4) This AD does not require compliance with paragraph (3) of EASA AD 2025-0174R1. This AD considers that modification an optional action and does not require it.

(5) Where the material referenced in EASA AD 2025-0174R1 specifies “if necessary, use a flashlight. A magnifying glass (at least x10 magnification) can be used”, this AD requires replacing that text with “use a light source and at least 10X magnification”.

(6) Where paragraph (5) of EASA AD 2025-0174R1 specifies that modification of a helicopter as required by paragraph (3) of EASA AD 2025-0174R1 constitutes a terminating action for the repetitive inspections as required by paragraph (1) of EASA AD 2025-0174R1, this AD considers that modification an optional action and does not require this action. For this AD, the modification terminates the repetitive inspection requirement.

(7) This AD does not adopt the “Remarks” section of EASA AD 2025-0174R1.

(i) No Reporting Requirement

Although the material referenced in EASA AD 2025-0174R1 specifies to submit certain information to the manufacturer, this AD does not require that action.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(l) Additional Information

For more information about this AD, contact Shailesh Malla, Aviation Safety Engineer, FAA, 1600 Stewart Avenue, Suite 410, Westbury, NY 11590; phone: (817) 222-5584; email: shailesh.malla@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0174R1, dated September 22, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on January 28, 2026.
Steven W. Thompson,
Acting Deputy Director, Compliance & Airworthiness Division, Aircraft Certification Service.

[FR Doc. 2026-01956 Filed 1-30-26; 8:45 am]

BILLING CODE 4910-13-P